DEPARTMENT OF TRANSPORTATION

Federal Aviation Administration

Notice of Availability of a Final Environmental Assessment (Final EA) and a Finding of No Significant Impact (FONSI)/Record of Decision (ROD) for the Proposed Construction and Operation of a Replacement Aerial Tramway, South Franklin Mountain, El Paso, Texas

AGENCY: Federal Aviation Administration (FAA), DOT.

ACTION: Notice of Availability of a Final Environmental Assessment (Final EA) and a Finding of No Significant Impact (FONSI)/Record of Decision (ROD) for the Proposed Construction and Operation of a Replacement Aerial Tramway, South Franklin Mountain, El Paso, Texas.

SUMMARY: The Federal Aviation Administration (FAA) is issuing this notice to advise the public that the FAA has prepared, and approved on November 6, 2013, a Finding of No Significant Impact (FONSI)/Record of Decision (ROD) based on the Final Environmental Assessment (Final EA) for the Proposed Construction and Operation of a Replacement Aerial Tramway (ATRAM), South Franklin Mountain, El Paso, Texas. The FAA prepared the Final EA in accordance with the National Environmental Policy Act and the FAA's regulations and guidelines for environmental documents and the Final EA was signed on September 30, 2013. Copies of the Final EA and/or FONSI/ROD are available by contacting Ms. Virginia Marcks through the contact information provided below.

FOR FURTHER INFORMATION CONTACT: Ms. Virginia Marcks, Manager, Infrastructure Engineering Center, Chicago, AJW-C15H, Federal Aviation Administration, 2300 East Devon Avenue, Des Plaines, Illinois 60018. Telephone number: (847) 294-7494.

SUPPLEMENTARY INFORMATION: The Final EA evaluated the construction and operation of a replacement ATRAM on South Franklin Mountain, in Franklin Mountains State Park, El Paso, Texas. The new ATRAM would replace the 58-year old existing ATRAM, which is beyond its operational service life and for which general maintenance and upkeep have become impractical and cost-intensive. The existing ATRAM has reached the point where replacement parts cannot be found and has many operational deficiencies and areas of concern. The replacement ATRAM, which would be constructed parallel to the existing ATRAM on South Franklin Mountain, would comply with industry standards for tramways.

The new ATRAM system would consist of a lower terminal, three intermediate towers, and an upper terminal. The new lower terminal facility would be located approximately 1,000 feet downhill from the existing location and the three intermediate towers would be located in the general vicinity of the existing intermediate tower location. A new upper terminal would be located atop South Franklin Mountain south of the current upper terminal. The new ATRAM would have an enclosed cabin which would accommodate and transport a minimum of four people and have a total load carrying capacity of 2,000 pounds.

After the new ATRAM system is fully operational, the FAA would decommission, demolish, remove the existing ATRAM system, and restore the lower terminal and intermediate parcels prior to transfer of the parcels to the Texas Parks and Wildlife Department.

The Final EA has been prepared in accordance with the National Environmental Policy Act (NEPA) of 1969, as amended, and FAA Order 1050.1E, “Environmental Impacts: Policies and Procedures.” In addition, FAA Order 5050.4B, “National Environmental Policy Act (NEPA) Implementing Instructions for Airport Actions” has been used as guidance in the preparation of the environmental analysis.

Issued in Des Plaines, Illinois, on December 27, 2013.
Virginia Marcks,
Manager, Infrastructure Engineering Center, Chicago, AJW-C15H, Federal Aviation Administration.

[FR Doc. 2013-31543 Filed 1-3-14; 8:45 am]

BILLING CODE 4910-13-P